OFFICE OF THE UNITED STATES TRADE REPRESENTATIVE

Request for Comments Regarding Foreign Nations Freeloading on American-Financed Innovation

AGENCY: Office of the United States Trade Representative (USTR).

ACTION: Request for comments.

SUMMARY: Pursuant to the Executive Order titled Delivering Most-Favored-Nation Prescription Drug Pricing to American Patients, USTR invites comments from interested parties regarding any act, policy, or practice that may be unreasonable or discriminatory and that has the effect of forcing American patients to pay for a disproportionate amount of global pharmaceutical research and development, including by suppressing the price of pharmaceutical products below fair market value in foreign countries.

DATES: To be assured of consideration, please submit comments by June 27, 2025.

ADDRESSES: Submit written comments through the online USTR portal: https://comments.ustr.gov/s/. Follow the instructions for submission in section III below. The docket number is USTR-2025-0011. For alternatives to online submissions, please contact Catherine Gibson, Deputy Assistant U.S. Trade Representative for Monitoring and Enforcement, at Catherine.H.Gibson@ustr.eop.gov or 202.395.5725.

FOR FURTHER INFORMATION CONTACT: Catherine Gibson, Deputy Assistant U.S. Trade Representative for Monitoring and Enforcement, at Catherine.H.Gibson@ustr.eop.gov or 202.395.5725.

SUPPLEMENTARY INFORMATION:

I. Background

On May 12, 2025, the President issued Executive Order 14297 titled Delivering Most-Favored-Nation Prescription Drug Pricing to American Patients (E.O.). See 90 FR 20749. The E.O. set out as policy that Americans should not be forced to subsidize low-cost prescription drugs and biologics in other developed countries and face overcharges for the same products in the United States, and therefore that Americans must have access to the most-favored-nation price for these products. In the E.O. the President also stated that his Administration will take immediate steps to end global freeloading and that, should drug manufacturers fail to offer American consumers the most-favored-nation lowest price, his Administration will take additional aggressive action.

To address foreign nations freeloading on American-financed innovation, the E.O. calls on the U.S. Trade Representative to take all necessary and appropriate action to ensure foreign countries are not engaged in any act, policy, or practice that may be unreasonable or discriminatory and that has the effect of forcing American patients to pay for a disproportionate amount of global pharmaceutical research and development, including by suppressing the price of pharmaceutical products below fair market value in foreign countries.

II. Topics on Which USTR Seeks Information

Pursuant to the E.O., USTR invites comments from interested parties regarding any act, policy, or practice that may be unreasonable or discriminatory and that has the effect of forcing American patients to pay for a disproportionate amount of global pharmaceutical research and development, including by suppressing the price of pharmaceutical products below fair market value in foreign countries.

Submissions should set out the foreign country or economy of concern; the act, policy, or practice of concern; any reason(s) that act, policy, or practice may be unreasonable or discriminatory, and how that act, policy, or practice has the effect of forcing American patients to pay for a disproportionate amount of global pharmaceutical research and development, including by suppressing the price of pharmaceutical products below fair market value in foreign countries.

Consistent with its statutory mandate, USTR welcomes ongoing engagement with and information from any interested party, and this request for comment should not be understood as the sole opportunity for an interested party to provide such information. This request for comments builds upon previous USTR requests for public comments, including the Request for Comments to Assist in Reviewing and Identifying Unfair Trade Practices and Initiating All Necessary Actions to Investigate Harm From Non-Reciprocal Trade Arrangements. See 90 FR 10677. Interested parties may submit a new comment in response to this request or may rely on comments previously submitted to USTR.

III. Submission Instructions

You must submit written comments in response to this notice using the appropriate docket on the portal at https://comments.ustr.gov/s/. To make a submission, use docket number USTR-2025-0011 entitled `Request for Comments Regarding Foreign Nations Freeloading on American-Financed Innovation'. You do not need to establish an account to submit comments. The first screen allows you to enter identification and contact information. Third-party organizations such as law firms, trade associations, or customs brokers should identify the full legal name of the organization they represent and identify the primary point of contact for the submission. Fields with a gray Business Confidential Information (BCI) notation are for BCI information that will not be made publicly available. Fields with a green (Public) notation will be viewable by the public. After entering the identification and contact information, you can complete the remainder of the comment, or any portion of it, by clicking `Next.' You may upload documents at the end of the form and indicate whether USTR should treat the documents as business confidential or public information. Any page containing BCI must be clearly marked `BUSINESS CONFIDENTIAL' on the top of that page and the submission should clearly indicate, via brackets, highlighting, or other means, the specific information that is BCI. If you request business confidential treatment, you must certify in writing that the information would not customarily be released to the public. Parties uploading attachments containing BCI also must submit a public version of their comments. If these procedures are not sufficient to protect BCI or otherwise protect business interests, please contact Catherine Gibson at Catherine.H.Gibson@ustr.eop.gov or 202.395.5725 to discuss whether alternative arrangements are possible. USTR will post attachments uploaded to the docket for public inspection, except for properly designated BCI. You can view submissions on USTR's electronic portal at https://comments.ustr.gov/s/.

Jennifer Thornton,
General Counsel, Office of the United States Trade Representative.

[FR Doc. 2025-09757 Filed 5-29-25; 8:45 am]

BILLING CODE 3390-F4-P